NUCLEAR REGULATORY COMMISSION

[NRC-2015-0160]

NuScale Power, LLC, Design-Specific Review Standard and Safety Review Matrix; Correction

AGENCY: Nuclear Regulatory Commission.

ACTION: Design-specific review standard; correction.

SUMMARY: The U.S. Nuclear Regulatory Commission (NRC) is correcting a notice that was published in the Federal Register (FR) on June 30, 2015, soliciting public comment on the Design-Specific Review Standard (DSRS) and Safety Review Matrix for the NuScale Power, LLC, design (NuScale DSRS Scope and Safety Review Matrix). This action is necessary to correct the table listing the NuScale-specific DSRS sections that the NRC is soliciting comment on because Section 14.3.8 was inadvertently omitted.

DATES: This correction is effective July 9, 2015. Submit comments by August 31, 2015. Comments received after this date will be considered if it is practical to do so, but the NRC is able to ensure consideration only for comments received on or before this date.

ADDRESSES: Please refer to Docket ID NRC-2015-0160 when contacting the NRC about the availability of information regarding this action. You may obtain publicly-available information related to this action using any of the following methods:

• Federal Rulemaking Web site: Go to http://www.regulations.gov and search for Docket ID NRC-2015-0160. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The complete NuScale DSRS Scope and Safety Review Matrix is available in ADAMS under Accession No. ML15156B063.

• NRC's PDR: You may examine and purchase copies of public documents at the NRC's PDR, Room O1-F21, One White Flint North, 11555 Rockville Pike, Rockville, Maryland 20852.

FOR FURTHER INFORMATION CONTACT: Jenny Gallo, Office of New Reactors, U.S. Nuclear Regulatory Commission, Washington, DC 20555-0001; telephone: 301-415-7367; email: NuScale-DSRS@nrc.gov.

SUPPLEMENTARY INFORMATION: In the FR on June 30, 2015, in FR Doc. 2015-16034, on page 37314, Section 14.3.8, “Radiation Protection—Inspections, Tests, Analyses, and Acceptance Criteria,” ADAMS Accession No. ML15127A385, is added to the table listing the NuScale-specific DSRS sections that the NRC is soliciting comment on.

Dated at Rockville, Maryland, this 2nd day of July 2015.
For the Nuclear Regulatory Commission.
Leslie S. Terry,
Acting Branch Chief, Rules, Announcements, and Directives Branch, Division of Administrative Services, Office of Administration.

[FR Doc. 2015-16753 Filed 7-8-15; 8:45 am]

BILLING CODE 7590-01-P